DEPARTMENT OF AGRICULTURE

Animal and Plant Health Inspection Service

[Docket No. APHIS-2013-0088]

Notice of Request for Revision to and Extension of Approval of an Information Collection; Blood and Tissue Collection at Slaughtering and Rendering Establishments

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for blood and tissue collection at slaughtering and rendering establishments to enhance animal disease surveillance.

DATES: We will consider all comments that we receive on or before April 11, 2014.

ADDRESSES: You may submit comments by either of the following methods:

• Federal eRulemaking Portal: Go to http://www.regulations.gov/#!documentDetail;D=APHIS-2013-0088-0001.

• Postal Mail/Commercial Delivery: Send your comment to Docket No. APHIS-2013-0088, Regulatory Analysis and Development, PPD, APHIS, Station 3A-03.8, 4700 River Road Unit 118, Riverdale, MD 20737-1238.

Supporting documents and any comments we receive on this docket may be viewed at http://www.regulations.gov/#!docketDetail;D=APHIS-2013-0088 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for blood and tissue collection at slaughtering and rendering establishments, contact Dr. Debra Cox, Senior Staff Veterinarian, Cattle Health Center, SPRS, VS, APHIS, 4700 River Road Unit 43, Riverdale, MD 20737; (301) 851-3504. For copies of more detailed information on the information collection, contact Mrs. Celeste Sickles, APHIS' Information Collection Coordinator, at (301) 851-2908.

SUPPLEMENTARY INFORMATION: Title: Blood and Tissue Collection at Slaughtering and Rendering Establishments.

OMB Control Number: 0579-0212.

Type of Request: Revision to and extension of approval of an information collection.

Abstract: Under the Animal Health Protection Act (7 U.S.C. 8301 et seq.), the Animal and Plant Health Inspection Service (APHIS) of the U.S. Department of Agriculture (USDA) is authorized, among other things, to prevent the interstate spread of livestock diseases and for eradicating such diseases from the United States when feasible. As part of this mission, APHIS' Veterinary Services (VS) conducts animal disease surveillance programs, including diagnostic testing.

The regulations in 9 CFR, subchapter C, part 71, “General Provisions,” provide for the collection of blood and tissue samples from livestock (horses, cattle, bison, captive cervids, sheep and goats, swine, and other farmed animals) and poultry at slaughter. Persons moving livestock and poultry interstate for slaughter may only move the animals to slaughtering or rendering establishments that have been listed by the Administrator of APHIS. At APHIS' discretion, slaughtering or rendering establishment personnel will collect blood and tissue samples to assess the prevalence of disease and to identify sources of disease.

Section 71.21 contains the requirements for tissue and blood testing at slaughter and requires the completion of certain information collection activities. Federal personnel, in conjunction with establishment personnel, are required to complete a listing agreement and a USDA-APHIS VS “USDA Listed Slaughter Facility Inspection Report” (VS Form 10-5). If the Administrator denies or withdraws an establishment's listing, the establishment may appeal the denial or withdrawal in writing to the Administrator. In addition, if an operator of a facility notifies the Administrator, in writing, that the facility will no longer handle livestock moved interstate in accordance with the regulations, the Administrator will withdraw an establishment's listing.

The above information collection activities and the USDA-APHIS National Veterinary Services Laboratories Specimen Submission Form/Continuation Sheet (VS Form 10-4/10-4A) for collection of bovine spongiform encephalopathy (BSE) specimens were previously approved by the Office of Management and Budget (OMB) under this collection. However, APHIS will no longer require VS Form 10-4/10-4A and will be instituting the use of an electronic form for use with BSE specimens under 0579-0409, which is a recently approved information collection.

Though APHIS will no longer require VS Form 10-4/10-4A, we estimate that there will be an increase in the number of respondents for this collection based on a final rule published in the Federal Register on May 7, 2013 ¹ (78 FR 26486-26489, APHIS-2007-0039). APHIS anticipates being able to collect listing agreements and facility inspection reports from nearly all U.S. slaughtering and rendering establishments. As a result, we have increased the estimated number of respondents from 66 to 1,925. However, based on the removal of the VS Form 10-4/10-4A, the estimated annual number of responses and the estimated total annual burden on respondents have decreased from 10,747 to 9,628 and 2,691 hours to 1,605 hours, respectively.

¹ To view the final rule, go to http://www.regulations.gov/#!docketDetail;D=APHIS-2007-0039.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.1667 hours per response.

Respondents: Accredited veterinarians and slaughter and rendering establishment personnel.

Estimated annual number of respondents: 1,925.

Estimated annual number of responses per respondent: 5.

Estimated annual number of responses: 9,628.

Estimated total annual burden on respondents: 1,605 hours. (Due to averaging, the total annual burden hours may not equal the product of the annual number of responses multiplied by the reporting burden per response.)

All responses to this notice will be summarized and included in the request for OMB approval. All comments will also become a matter of public record.

Done in Washington, DC, this 3rd day of February 2014.
Kevin Shea,
Administrator, Animal and Plant Health Inspection Service.

[FR Doc. 2014-02757 Filed 2-7-14; 8:45 am]

BILLING CODE 3410-34-P